DEPARTMENT OF JUSTICE

[OMB Number 1105-0030]

Agency Information Collection Activities; Proposed eCollection eComments Requested; Revision of and Renewal of Previously Approved Collection; Comments Requested; Electronic Applications for the Attorney General's Honors Program and the Summer Law Intern Program

AGENCY: Office of Attorney Recruitment and Management, Department of Justice.

ACTION: 60-day notice.

SUMMARY: The Department of Justice (DOJ), Justice Management Division, Office of Attorney Recruitment and Management (OARM), will be submitting the following information collection request to the Office of Management and Budget (OMB) for review and approval in accordance with the Paperwork Reduction Act of 1995.

DATES: The Department of Justice encourages public comment and will accept input until February 15, 2019.

FOR FURTHER INFORMATION CONTACT: If you have additional comments, especially on the estimated public burden or associated response time, suggestions, or need a copy of the proposed information collection instrument with instructions or additional information, please contact Deana Willis, Assistant Director, Office of Attorney Recruitment and Management, 450 5th Street NW, Suite 10200, Washington, DC 20530; Deana.Willis@usdoj.gov; (202) 514-8902.

SUPPLEMENTARY INFORMATION: Written comments and/or suggestions from the public and affected agencies concerning the proposed collection of information are encouraged. Your comments should address one or more of the following four points:

(1) Evaluate whether the proposed collection of information is necessary for the proper performance of the functions of the Office of Attorney Recruitment and Management, including whether the information will have practical utility;

(2) Evaluate the accuracy of the agencies estimate of the burden of the proposed collection of information, including the validity of the methodology and assumptions used;

(3) Evaluate whether, and if so, how, the quality, utility, and clarity of the information to be collected can be enhanced; and

(4) Minimize the burden of the collection of information on those who are to respond, including through the use of appropriate automated, electronic, mechanical, or other technological collection techniques or other forms of information technology, e.g., permitting electronic submission of responses.

Overview of this Information Collection

1. Type of information collection: Revision and Renewal of a Currently Approved Collection.

2. The title of the form/collection: Electronic Applications for the Attorney General's Honors Program and Summer Law Intern Program.

3. The agency form number, if any, and the applicable component of the department sponsoring the collection: There is no agency form number for this collection. The applicable component within the Department of Justice is the Office of Attorney Recruitment and Management, Justice Management Division, U.S. Department of Justice.

4. Affected public who will be asked or required to respond, as well as a brief abstract: Primary: Individuals or households. Other: None. The application form is submitted voluntarily, once a year, by law students and recent law school graduates (e.g., judicial law clerks) who will be in this applicant pool only once.

5. An estimate of the total number of respondents and the amount of time estimated for an average respondent to respond/reply: It is estimated that 3500 respondents will complete the application in approximately 1 hour per application. It is further estimated that it takes an average of an additional 45 minutes to review the instructions, search existing data sources, gather the data needed, and complete and review the application. In addition, an estimated 600 respondents (Honors Program candidates selected for interviews) will complete a Travel Survey used to schedule interviews and prepare official travel authorizations prior to the interviewees' performing pre-employment interview travel (as defined by 41 CFR Sec. 301-1.3), as needed, in approximately 10 minutes per form, plus an estimated 400 respondents who will complete a Reimbursement Form (if applicable) in order for the Department to prepare the travel vouchers required to reimburse candidates for authorized costs they incurred during pre-employment interview travel at approximately 10 minutes per form.

6. An estimate of the total public burden (in hours) associated with the collection: The estimated revised total annual public burden associated with this application is 6292 hours.

If additional information is required, please contact: Melody Braswell, Department Clearance Officer, U.S. Department of Justice, Justice Management Division, Policy and Planning Staff, Two Constitution Square, 145 N Street NE, Room 3E.405B, Washington, DC 20530.

Dated: December 11, 2018.
Melody Braswell,
Department Clearance Officer for PRA, U.S. Department of Justice.

[FR Doc. 2018-27172 Filed 12-14-18; 8:45 am]

BILLING CODE 4410-PB-P